DEPARTMENT OF COMMERCE

International Trade Administration

[A-570-914]

Light-Walled Rectangular Pipe and Tube From the People's Republic of China: Final Results of Antidumping Duty Administrative Review; 2020-2021; Correction

AGENCY: Enforcement and Compliance, International Trade Administration, Department of Commerce.

SUMMARY: On March 14, 2023, the U.S. Department of Commerce (Commerce) published a notice in the Federal Register, in which it issued the final results of the 2020-2021 antidumping duty administrative review of light-walled rectangular pipe and tube from the People's Republic of China (China). The notice inadvertently contained an incorrect rate for the China-wide entity.

DATES: Applicable March 29, 2023.

FOR FURTHER INFORMATION CONTACT: Magd Zalok, AD/CVD Operations, Office IV, Enforcement and Compliance, International Trade Administration, U.S. Department of Commerce, 1401 Constitution Avenue NW, Washington, DC 20230; telephone: (202) 482-4162.

SUPPLEMENTARY INFORMATION:

Correction

In the Federal Register of March 14, 2023, in FR Doc. 2023-05208, pages 15671-72 in the third and first columns, respectively, Commerce included an incorrect China-wide rate of 264.64 percent. The correct China-wide rate is 255.07 percent.

Background

On March 14, 2023, Commerce inadvertently published an incorrect rate in the final results of the 2020-2021 antidumping duty administrative review of light-walled rectangular pipe and tube from China.¹ In the final results, Commerce incorrectly listed the China-wide rate as 264.64 percent, while the correct China-wide rate is 255.07 percent. This notice serves as a notification of, and correction to, this inadvertent error. With the issuance of this notice of correction, we confirm that the China-wide rate is 255.07 percent.

¹ See Light-Walled Rectangular Pipe and Tube from the People's Republic of China: Final Results of Antidumping Duty Administrative Review; 2020-2021, 88 FR 15671 (March 14, 2023).

Notification to Interested Parties

This notice is issued and published in accordance with sections 751(a)(1) and 777(i) of the Tariff Act of 1930, as amended.

Dated: March 24, 2023.
Lisa W. Wang,
Assistant Secretary for Enforcement and Compliance.

[FR Doc. 2023-06632 Filed 3-28-23; 8:45 am]

BILLING CODE 3510-DS-P